DEPARTMENT OF TRANSPORTATION

Federal Aviation Administration (FAA)

[Dockets No. FAA-2007-29320 and FAA-2008-0221]

Operating Limitations at John F. Kennedy International Airport and Newark Liberty International Airport

ACTION: Notice of limited waiver of the slot usage requirement.

SUMMARY: This action announces a limited waiver of the minimum usage requirements that apply to Operating Authorizations at John F. Kennedy International Airport (JFK) and Newark Liberty International Airport (EWR) for nonstop flights to or from Mexico. This policy is effective from April 27, 2009, through September 12, 2009.

DATES: Effective Date: effective upon publication.

FOR FURTHER INFORMATION CONTACT: James Tegtmeier, Associate Chief Counsel for the Air Traffic Organization; telephone—(202) 267-8323; e-mail—james.tegtmeier@faa.gov.

SUPPLEMENTARY INFORMATION:

Background

On May 1, the Air Transport Association (ATA) requested a partial waiver of the minimum slot usage requirements at JFK and EWR. The ATA requested relief for flights between points in Mexico and JFK or EWR, citing the recent incidence of H1N1 influenza that has affected the number of airline passengers traveling to and from cities in Mexico. ATA also cites actions by the U.S. Centers for Disease Control and Prevention (CDC), the World Health Organization, and the Mexican government to address the H1N1 outbreak, which have limited passenger demand for flights to Mexico.

According to ATA, demand had fallen by approximately 50 percent and future bookings were “vastly reduced.” ATA represented that the relief is necessary to address an unexpected and extraordinary disruption of travel demand and service. ATA sought a waiver of the minimum usage requirements on flights to and from Mexico, as well as to and from any other country to which the CDC recommends against unnecessary travel. The CDC issued such a recommendation regarding non-essential travel to and from Mexico on April 27. The CDC withdrew its recommendation on May 15, narrowing its travel-related, precautionary advice to the population that is at risk for complications from the virus.

Under the FAA's orders limiting scheduled operations at the airports, slots must be used at least 80 percent of the time or they will be withdrawn and will not receive historic precedence for the following scheduling season.¹ The FAA may grant a waiver from the minimum usage requirements in highly unusual and unpredictable conditions that are beyond the control of the carrier and affect carrier operations for a period of five consecutive days or more.

¹ 73 FR 8,737, 8,737-38, 8,739 (Feb. 14, 2008) (JFK); 73 FR 29,550, 29,554-55 (May 21, 2008).

Statement of Policy

The FAA has determined that the circumstances surrounding the outbreak of the H1NI flu meet the criteria for a limited waiver of the applicable minimum slot usage requirements. On April 27, the CDC issued a Travel Health Warning recommending against non-essential travel to Mexico. The CDC downgraded this warning on May 15 to a Travel Health Precaution, urging travelers to take steps to protect against contracting the H1NI flu and to consider postponing travel if the traveler is in a population that is at risk for complications from the virus.

We have evaluated the effect of the CDC recommendations on carriers that conduct scheduled service to affected airports. Our review of carrier schedules at JFK, EWR, and other airports shows that carriers have cancelled flights or adjusted frequencies for various dates through the summer season. Many carriers have also adopted policies to allow limited flexibility for passengers to change or cancel reservations for Mexico flights. Carriers are assessing demand to determine when or if to restore flights to points in Mexico. At the same time, overall demand for flights in the New York City area remains strong, and several carriers are seeking slots for new or expanded service. As a result, carriers that have cancelled service to Mexico could use the slots to serve other markets or to enter into agreements to have other carriers use their slots for a period of time.

The FAA has decided to grant the waiver until September 12, because many carriers have significant schedule changes during that month. This would also afford affected carriers a period of time to arrange for the continued use of the operating authority at or above the minimum use threshold, either by adding service to unaffected locations or by leasing or trading the operating authority to another carrier that can conduct such service. This slot usage waiver applies only to nonstop flights scheduled between JFK or EWR and a point in Mexico during the effective dates of this policy and only to flights that were available for sale prior to April 27, 2009.

Carriers must identify to the FAA's Slot Administration Office the dates for which the waiver is requested and provide the flight number, origin/destination airport, scheduled time of operation, and the slot identification number. By August 14, carriers should identify qualified cancelled flights for the period from April 27 through August 2. Beginning August 3, carriers must provide advance notice of cancellations to the FAA Slot Administration Office in order to obtain a waiver. Information should be provided to the Slot Administration Office by e-mail at 7-awa-slotadmin@faa.gov or by facsimile at (202) 267-7277.

Issued in Washington, DC on July 7, 2009.
Rebecca B. MacPherson,
Assistant Chief Counsel for Regulations.

[FR Doc. E9-16512 Filed 7-14-09; 8:45 am]

BILLING CODE 4910-13-M